DEPARTMENT OF COMMERCE

National Institutes of Standards and Technology

15 CFR Part 290

[Docket No.: 210913-0184]

RIN 0693-AB68

Hollings Manufacturing Extension Partnership—Amendment to Venue for Publishing Notices of Funding Opportunities for Financial Assistance

AGENCY: National Institute of Standards and Technology (NIST), United States Department of Commerce.

ACTION: Final rule.

SUMMARY: NIST is issuing a final rule to amend the regulations governing the Hollings Manufacturing Extension Partnership (MEP) program to reflect the current requirements for publishing Notices of Funding Opportunities (NOFOs) for the establishment and operation of MEP Centers, consistent with the current MEP authorizing statute and Department of Commerce (Department or DOC) policy.

DATES: This rule is effective October 8, 2021.

FOR FURTHER INFORMATION CONTACT: J. Chancy Lyford, External Affairs, Performance and Support Division, Hollings Manufacturing Extension Partnership, National Institute of Standards and Technology, 100 Bureau Drive, Mail Stop 4800, Gaithersburg, MD 20899, 240-660-0324.

SUPPLEMENTARY INFORMATION:

I. Background

The Hollings MEP Program (Program) is a unique program, consisting of centers in each state and Puerto Rico with partnerships at the state, federal, and local levels. Prior to being amended by Section 501(b) of the American Innovation and Competitiveness Act (AICA), Public Law 114-329, the Program statute, 15 U.S.C. 278k(c), required that NIST publish in the Federal Register a description of each financial assistance program to establish an MEP Center. Section 501(b) of AICA removed the requirement that such notices be published in the Federal Register, which is consistent with the current policy of the Department of Commerce to publish all notices of funding opportunities (NOFOs) on www.Grants.gov, unless otherwise required by statute or regulation.¹

¹ In addition, the Office of Management and Budget has encouraged Federal agencies to use www.Grants.gov since 2003. 68 FR 58146.

NIST is amending the MEP regulations, specifically 15 CFR 290.7, to remove the requirement that NOFOs to solicit applications to establish a new MEP Center or to operate a pre-existing MEP Center be published in the Federal Register.

II. Statutory Authority

15 U.S.C. 278k was revised by section 501(b) of AICA to eliminate the requirement that solicitations for operators of MEP Centers be published in the Federal Register.

III. Regulatory Analysis

Because this final rule is a matter relating to public property, loans, grants, benefits, or contracts, 5 U.S.C. 553 does not apply. See 5 U.S.C. 553(a)(2). Therefore, prior notice and opportunity for public comment are not required under 5 U.S.C. 553, and there is no requirement for a 30-day delay in the effectiveness of this action under 5 U.S.C. 553(d).

Executive Order 12866

This final rule was determined to be not significant for purposes of Executive Order 12866.

Executive Order 13132

This final rule does not contain policies with Federalism implications as defined in Executive Order 13132.

Regulatory Flexibility Act

Because prior notice and opportunity for public comment are not required for this rule by 5 U.S.C. 553, or any other law, the analytical requirements of the Regulatory Flexibility Act, 5 U.S.C. 601 et seq., do not apply.

Paperwork Reduction Act

This rule contains no new collection of information subject to the Paperwork Reduction Act, 44 U.S.C. 3501 et seq.

National Environmental Policy Act

This final rule will not significantly affect the quality of the human environment. Therefore, an environmental assessment or Environmental Impact Statement is not required to be prepared under the National Environmental Policy Act of 1969.

List of Subjects in 15 CFR Part 290

Cooperative agreements, Grant programs, Science and technology.

For the reasons stated in the preamble, NIST is amending 15 CFR part 290 as follows:

PART 290—REGIONAL CENTERS FOR THE TRANSFER OF MANUFACTURING TECHNOLOGY

1. The authority citation for 15 CFR part 290 continues to read as follows:

Authority: 15 U.S.C. 278k.

2. Revise § 290.7 to read as follows:

§ 290.7 Proposal selection process.

Upon the availability of funding to solicit applications to establish a new Manufacturing Extension Partnership (MEP) Center or to operate a pre-existing MEP Center, the Director shall publish a notice of funding opportunity on www.Grants.gov requesting submission of competitive proposals from eligible organizations.

Alicia Chambers,
NIST Executive Secretariat.

[FR Doc. 2021-21976 Filed 10-7-21; 8:45 am]

BILLING CODE 3510-13-P